DEPARTMENT OF THE TREASURY

Submission for OMB Review; Comment Request

April 23, 2014.

The Department of the Treasury will submit the following information collection requests to the Office of Management and Budget (OMB) for review and clearance in accordance with the Paperwork Reduction Act of 1995, Public Law 104-13, on or after the date of publication of this notice.

DATES: Comments should be received on or before May 28, 2014 to be assured of consideration.

ADDRESSES: Send comments regarding the burden estimate, or any other aspect of the information collection, including suggestions for reducing the burden, to (1) Office of Information and Regulatory Affairs, Office of Management and Budget, Attention: Desk Officer for Treasury, New Executive Office Building, Room 10235, Washington, DC 20503, or email at OIRA_Submission@OMB.EOP.gov and (2) Treasury PRA Clearance Officer, 1750 Pennsylvania Ave. NW., Suite 8141, Washington, DC 20220, or email at PRA@treasury.gov.

FOR FURTHER INFORMATION CONTACT: Copies of the submission(s) may be obtained by emailing PRA@treasury.gov, calling (202) 622-1295, or viewing the entire information collection request at www.reginfo.gov.

Alcohol and Tobacco Tax and Trade Bureau (TTB)

OMB Number: 1513-0025.

Type of Review: Extension without change of a currently approved collection.

Title: Notice of Release of Tobacco Products, Cigarette Papers, or Cigarette Tubes.

Form: TTB F 5200.11.

Abstract: The form TTB F 5200.11 is used by a manufacturer of tobacco products or an export warehouse to obtain the release of tobacco products and cigarette papers and tubes from Customs custody, without payment of tax, under internal revenue bond. Such products may also include tobacco products and cigarette papers and tubes exported and returned to the original manufacturer or to an export warehouse authorized by that manufacturer. The form is used by TTB to ensure compliance with laws and regulations at the time of these transactions and for post audit examinations.

Affected Public: Businesses or other for-profit organizations.

Estimated Annual Burden Hours: 536.

OMB Number: 1513-0058.

Type of Review: Revision of a currently approved collection.

Title: Usual and Customary Business Records Maintained by Brewers (TTB REC 5130/1).

Abstract: The Internal Revenue Code of 1986 requires brewers to keep records, in such form and containing such information as prescribed by regulation and as necessary for protection of the revenue. The TTB regulations set forth the records that brewers must keep regarding their operations. TTB audits brewers' records to verify production of beer and cereal beverage and to verify the quantity of beer removed subject to tax and removed without payment of tax. TTB believes that these records would be normally kept in the course of doing business.

Affected Public: Businesses or other for-profit organizations.

Estimated Annual Burden Hours: 1.

OMB Number: 1513-0110.

Type of Review: Revision of a currently approved collection.

Title: Recordkeeping for Tobacco Products Removed in Bond from a Manufacturer's Premises for Experimental Purposes—27 CFR 40.232(e).

Abstract: The Internal Revenue Code provides that manufacturers of tobacco products may remove tobacco products without payment of Federal excise tax for experimental purposes, in such quantities and in such manner as prescribed by regulation. The TTB regulations set forth the standards for such removals and the prescribed records are used by TTB to ensure that the products meet the standards for experimental purposes and that the removals are in compliance with the IRC and TTB regulations.

Affected Public: Businesses or other for-profit organizations.

Estimated Annual Burden Hours: 1.

OMB Number: 1513-0132.

Type of Review: Extension without change of a currently approved collection.

Title: Generic Clearance for the Collection of Qualitative Feedback on Agency Service Delivery.

Abstract: The information collection activity will garner qualitative customer and stakeholder feedback in an efficient, timely manner, in accordance with the Administration's commitment to improving service delivery. By qualitative feedback we mean information that provides useful insights on perceptions and opinions, but are not statistical surveys that yield quantitative results that can be generalized to the population of study. This feedback will provide insights into customer or stakeholder perceptions, experiences and expectations, provide an early warning of issues with service, or focus attention on areas where communication, training or changes in operations might improve delivery of products or services. These collections will allow for ongoing, collaborative and actionable communications between the Agency and its customers and stakeholders. It will also allow feedback to contribute directly to the improvement of program management.

Feedback collected under this generic clearance will provide useful information, but it will not yield data that can be generalized to the overall population. This type of generic clearance for qualitative information will not be used for quantitative information collections that are designed to yield reliably actionable results, such as monitoring trends over time or documenting program performance. Such data uses require more rigorous designs that address: the target population to which generalizations will be made, the sampling frame, the sample design (including stratification and clustering), the precision requirements or power calculations that justify the proposed sample size, the expected response rate, methods for assessing potential non-response bias, the protocols for data collection, and any testing procedures that were or will be undertaken prior fielding the study. Depending on the degree of influence the results are likely to have, such collections may still be eligible for submission for other generic mechanisms that are designed to yield quantitative results.

Average Expected Annual Number of Activities: 10.

Number of Respondents: 10,000.

Frequency of Response: Once per request.

Average Minutes Per Response: 60.

Estimated Annual Burden Hours: 10,000.

Brenda Simms,
Treasury PRA Clearance Officer.

[FR Doc. 2014-09600 Filed 4-25-14; 8:45 am]

BILLING CODE 4810-31-P